Executive Order 13204 of February 17, 2001

Revocation of Executive Order on Nondisplacement of

Qualified Workers Under Certain Contracts

By the authority vested in me as President by the Constitution and the laws of the United States of America, it is hereby ordered that:

Section 1. Executive Order 12933 of October 20, 1994, which requires, with respect to contracts for public buildings, that successive contractors offer a right of first refusal of employment to employees of the prior contractor, is revoked.

Sec. 2. The Secretary of Labor (Secretary), the Federal Acquisition Regulatory Council, and heads of executive agencies shall promptly move to rescind any orders, rules, regulations, guidelines, or policies implementing or enforcing Executive Order 12933 of October 20, 1994, to the extent consistent with law.

Sec. 3. The Secretary shall terminate, effective today, any investigations or other compliance actions based on Executive Order 12933 of October 20, 1994.

B

THE WHITE HOUSE,

February 17, 2001.

[FR Doc. 01-4624

Filed 02-21-01; 11:17 am]

Billing code 3195-01-P